DEPARTMENT OF ENERGY

National Coal Council

AGENCY: Office of Fossil Energy, Department of Energy.

ACTION: Notice of open meeting.

SUMMARY: This notice announces a meeting of the National Coal Council (NCC). Federal Advisory Committee Act (Pub. L. 92-463, 86 Stats. 770) requires notice of these meetings be announced in the Federal Register.

DATES: May 22, 2008, 9 a.m-12 Noon.

ADDRESSES: DoubleTree Hotel, 1515 Rhode Island Avenue, NW., Washington, DC.

FOR FURTHER INFORMATION CONTACT: Robert Kane, Phone: (202) 586-4753, U.S. Department of Energy, Office of Fossil Energy, Washington, DC 20585.

SUPPLEMENTARY INFORMATION: Purpose of the Committee: The purpose of the National Coal Council is to provide advice, information, and recommendations to the Secretary of Energy on matters related to coal and coal industry issues. The purpose of this meeting is to recognize the important contributions that the NCC has made to the Department and other Federal agencies over the past years.

Tentative Agenda

○ Welcome and Call to Order by Ms. Georgia Nelson, Chair.

○ Remarks by Secretary of Energy, Samuel W. Bodman (Invited).

○ Council Business.

Finance Report by Committee Chairman Richard Eimer.

Secretary's Report by NCC Secretary Larry Grimes.

Reporting Nominating Committee by Committee Chairman Steve Leer.

Election of Officers for 2008-2009 Term.

○ Presentation by Bill Fang, EEI Deputy General Counsel, on Climate Change Legislative Proposals and Potential Economic Impacts.

○ NCC Study Presentation by Study Work Group Chairman Mark David Goss.

○ Other Business.

○ Adjourn.

Public Participation: The meeting is open to the public. The Chairman of the NCC will conduct the meeting to facilitate the orderly conduct of business. If you would like to file a written statement with the Committee, you may do so before or after the meeting. If you would like to make oral statements regarding any of the items on the agenda, you should contact Robert Kane at the address or telephone number listed above. You must make your request for an oral statement at least five business days prior to the meeting, and reasonable provisions will be made to include the presentation on the agenda. Public comment will follow the 10 minute rule.

Transcripts: The transcript will be available for public review and copying within 30 days at the Freedom of Information Public Reading Room, 1E-190, Forrestal Building, 1000 Independence Avenue, SW., Washington, DC, between 9 a.m. and 4 p.m., Monday through Friday, except Federal holidays.

Issued in Washington, DC on April 2, 2008.
Rachel Samuel,
Deputy Committee Management Officer.

[FR Doc. E8-7164 Filed 4-4-08; 8:45 am]

BILLING CODE 6450-01-P